ENVIRONMENTAL PROTECTION AGENCY

[EPA-HQ-OPP-2021-0196; FRL-9136-01-OCSPP]

Pesticide Program Dialogue Committee; Notice of Charter Renewal

AGENCY: Environmental Protection Agency (EPA).

ACTION: Notice of charter renewal.

SUMMARY: Notice is hereby given that the Environmental Protection Agency (EPA) has determined that, in accordance with the provisions of the Federal Advisory Committee Act (FACA), 5 U.S.C. app. 2, the Pesticide Program Dialogue Committee (PPDC) is in the public interest and is necessary in connection with the performance of EPA's duties. Accordingly, PPDC will be renewed for an additional two-year period. The purpose of PPDC is to provide advice and recommendations to the EPA Administrator on issues associated with regulatory development and reform initiatives, evolving public policy and program implementation issues, and science issues associated with evaluating and reducing risks from use of pesticide.

FOR FURTHER INFORMATION CONTACT: Shannon Jewell, Designated Federal Officer, PPDC, U.S. EPA, 1200 Pennsylvania Ave. NW, Washington, DC 20460, Telephone: (571) 289-9911, Email: jewell.shannon@epa.gov.

SUPPLEMENTARY INFORMATION:

I. General Information

A. Does this action apply to me?

You may be potentially affected by this action if you work in agricultural settings or if you are concerned about implementation of the Federal Insecticide, Fungicide, and Rodenticide Act (FIFRA) (7 U.S.C. 136 et seq.); the Federal Food, Drug, and Cosmetic Act (FFDCA) (21 U.S.C. 301 et seq.); and the amendments to both of these major pesticide laws by the Food Quality Protection Act (FQPA) of 1996; the Pesticide Registration Improvement Act (PRIA) (which amends FIFRA section 33); and the Endangered Species Act (ESA) (16 U.S.C. 1531 et seq.). Potentially affected entities may include but are not limited to: Agricultural workers and farmers; pesticide industry and trade associations; environmental, consumer, farmworker and environmental justice organizations; pesticide users and growers; animal rights groups; pest consultants; State, local, and tribal governments; academia; public health organizations; and the public. If you have questions regarding the applicability of this action to a particular entity, consult the person listed under FOR FURTHER INFORMATION CONTACT.

B. How can I get copies of this document and other related information?

The docket for this action, identified by docket identification (ID) number EPA-HQ-OPP-2021-0196, is available online at http://www.regulations.gov.

Due to the public health concerns related to COVID-19, the EPA Docket Center (EPA/DC) and Reading Room is closed to visitors with limited exceptions. The staff continues to provide remote customer service via email, phone, and webform. For the latest status information on EPA/DC services and docket access, visit https://www.epa.gov/dockets.

Once the EPA/DC is reopened to the public, the docket will also be available in-person at the Office of Pesticide Programs Regulatory Public Docket (OPP Docket) in the EPA/DC, West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (703) 305-5805.

Authority: 5 U.S.C. appendix 2et seq.

Dated: October 21, 2021.
Edward Messina,
Director, Office of Pesticide Programs.

[FR Doc. 2021-23328 Filed 10-25-21; 8:45 am]

BILLING CODE 6560-50-P